COMMODITY FUTURES TRADING COMMISSION

Sunshine Act Meeting

Time and Date: 11 a.m., Friday, November 29, 2002.

Place: 1155 21st St., NW., Washington, DC, 9th Floor Conference Room.

Status: Closed.

Matters to be Considered: Surveillance matters.

CONTACT PERSON FOR MORE INFORMATION: Jean A. Webb, 202-418-5100.

Jean A. Webb,
Secretary of the Commission.

[FR Doc. 02-27601 Filed 10-25-02; 2:43 pm]

BILLING CODE 6351-01-M